DEPARTMENT OF ENERGY

Federal Energy Regulatory Commission

[Project No. 5669-000]

San Diego County Water Authority; Notice of Application Accepted for Filing, Soliciting Comments, Motions To Intervene, and Protests

Take notice that the following hydroelectric application has been filed with the Commission and is available for public inspection:

a. Type of Proceeding: Surrender of Exemption.

b. Project No.: 5669-000.

c. Date Filed: June 16, 2014, and supplemented on September 9, 2014.

d. Licensee: San Diego County Water Authority.

e. Name of Project: Miramar Power Plant Small Conduit Hydroelectric Project.

f. Location: The project is located on San Diego County Water Authority Second Aqueduct Pipelines to the Miramar Filtration Plant, San Diego, San Diego County, California.

g. Filed Pursuant to: 18 CFR 4.102 and 4.95.

h. Licensee Contact: Mr. Carson Struthers, Contracts Manager, San Diego County Water Authority, 610 West 5th Avenue, Escondido, CA 92025, Telephone: 760-233-3224, Email: cstruthers@sdcwa.org.

i. FERC Contact: Jennifer Polardino, (202) 502-6437, Jennifer.Polardino@ferc.gov.

j. Deadline for filing comments and protests is 30 days from the issuance of this notice by the Commission. Please file your submittal electronically via the Internet (eFiling) in lieu of paper. Please refer to the instructions on the Commission's Web site under http://www.ferc.gov/docs-filing/efiling.asp and filing instructions in the Commission's Regulations at 18 CFR section 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-5669-000) on any documents or motions filed. The Commission strongly encourages electronic filings; otherwise, you should submit an original and seven copies of any submittal to the following address: The Secretary, Federal Energy Regulatory Commission, Mail Code: DHAC, PJ-12, 888 First Street NE., Washington, DC 20426.

k. Description of Project Facilities: The project consists of: (1) An existing 48-inch diameter raw water conduit; (2) a new 48-inch diameter inlet pipeline; (3) a powerplant with three generating units and a total installed capacity of 1,200 kW.

l. Description of Proceeding: On June 16, 2014, and supplemented on September 9, 2014, San Diego County Water Authority filed an application stating that due to reconfigurations in the exemptee's water supply system that decreased the pressure gradient, the project has been offline since May 2002. The following actions have been taken to inactivate and secure the project: (1) The units were disabled and outlet values closed; and (2) lockout/tagouts were also installed. Therefore, exemptee requests to surrender the exemption for the Miramar Project.

m. This notice is available for review and reproduction at the Commission in the Public Reference Room, Room 2A, 888 First Street NE., Washington, DC 20426. The filing may also be viewed on the Commission's Web site at http://www.ferc.gov/docs-filing/elibrary.asp. Enter the Docket number (P-5669-000) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

q. Agency Comments—Federal, state, and local agencies are invited to file comments on the described proceeding. If any agency does not file comments within the time specified for filing comments, it will be presumed to have no comments.

Dated: September 16, 2014.
Kimberly D. Bose,
Secretary.

[FR Doc. 2014-22651 Filed 9-23-14; 8:45 am]

BILLING CODE 6717-01-P